DEPARTMENT OF COMMERCE

International Trade Administration

A-337-806

Individually Quick Frozen Red Raspberries from Chile: Notice of Partial Rescission of Antidumping Duty Administrative Review

AGENCY: Import Administration, International Trade Administration, Department of Commerce.

SUMMARY: In response to requests from interested parties, the Department of Commerce is conducting an administrative review of the antidumping duty order on individually quick frozen red raspberries from Chile. This review covers sales of individually quick frozen red raspberries to the United States during the period July 1, 2003 through June 30, 2004. Based on the withdrawal of requests for review with respect to certain companies, we are rescinding, in part, the second administrative review.

EFFECTIVE DATE: December 17, 2004.

FOR FURTHER INFORMATION CONTACT: Yasmin Bordas, AD/CVD Operations, Office 1, Import Administration, International Trade Administration, U.S. Department of Commerce, 14th Street and Constitution Avenue, N.W., Washington D.C. 20230; telephone (202) 482-3813.

SUPPLEMENTARY INFORMATION:

Background

On July 1, 2004, the Department of Commerce (“the Department”) published in the Federal Register the Notice of Antidumping or Countervailing Duty Order, Finding, or Suspended Investigation; Opportunity to Request Administrative Review, 69 FR 39903 (July 1, 2004), for the above-cited segment of this antidumping duty proceeding. We received a timely filed request for review for 52 companies from the Pacific Northwest Berry Association, Lynden, Washington, and each of its individual members, Curt Maberry Farm; Enfield Farms, Inc.; Maberry Packing; and Rader Farms, Inc. (collectively, “the petitioners”). We also received timely filed requests for review from Fruticola Olmue, S.A. (“Olmue”); Santiago Comercio Exterior Exportaciones, Ltda. (“SANCO”); Valles Andinos, S.A. (“Valles Andinos”); Vital Berry Marketing, S.A. (“Vital Berry”); and Alimentos y Frutos and its affiliate, Vita Food, S.A. (collectively, “Alifrut”).¹

¹ These five companies were included in the petitioners' request for review for 52 companies.

On August 30, 2004, the Department published in the Federal Register the Notice of Initiation of Antidumping and Countervailing Duty Administrative Reviews and Requests for Revocation in Part, 69 FR 52857 (August 30, 2004), initiating this review for all 52 companies. On November 17, 2004, Alifrut timely withdrew its request for review. See 19 CFR 351.213(d)(1). On November 29, 2004, we received a submission from the petitioners withdrawing their request for review for all of the companies for which they had requested an administrative review. On December 1, 2004, the petitioners submitted a revised request to correct a typographical error made in the November 29, 2004, request. On December 7, 2004, Valles Andinos withdrew its request for review.

Partial Rescission of Antidumping Administrative Review

Alifrut filed its withdrawal request within the deadline established by the Department. The withdrawal requests made by the petitioners and Valles Andinos were submitted to the Department after the withdrawal deadline of November 28, 2004. However, 19 CFR 351.213(d)(1) permits the Department to extend the deadline for withdrawal requests if “it is reasonable to do so.” Because we have not received objections to any of the withdrawal requests, the Department has accepted these requests. Therefore, we are rescinding the above-cited administrative review with respect to the following companies in accordance with 19 CFR 351.213(d)(1):

Agricola Nova, Ltda.

Agrocomercial Las

Tinajas, Ltda.

Agrofruta Chilena, Ltda.

Agroindustria Framberry, Ltda.

Agroindustria Niquen, Ltda.

Agroindustria Sagrada

Familia, Ltda.

Agroindustria y Frigorifico

M y M, Ltda.

Agroindustrial Frisac, Ltda.

Agroindustrial Frutos

del Maipo, Ltda.

Agroindustrial Merco Trading, Ltda.

Agroindustrias San Francisco, Ltda.

Agross, S.A.

Alimentos Prometeo, Ltda.

Alimentos y Frutos, S.A.

Andesur, S.A.

Angloeuro Comercio Exterior, S.A.

Armijo Carrasco, Claudio del Carmen

Arvalan, S.A.

Bajo Cero, S.A.

Certified Pure Ingredients (Chile) Inc.

y Cia., Ltda.

Chile Andes Foods, S.A.

Comercializadora Agricola

Berries & Fruit, Ltda.

Comercializadora de Alimentos

del Sur, Ltda.

Comercio y Servicios, S.A.

Copefrut, S.A.

C y C Group, S.A.

Exportaciones Meyer, S.A.

Exportadora Pentagro, S.A.

Francisco Nancuvilu Punsin

Frigorifico Ditzler, Ltda.

Frutas de Guaico, S.A.

Fruticola Viconto, S.A.

Hassler Monckeberg, S.A.

Hortifrut, S.A.

Interagro Comercio y Ganado, S.A.

Kugar Export, Ltda.

Maria Teresa Ubilla Alarcon

Multifrigo Valparaiso, S.A.

Nevada Export, S.A.

Prima Agrotrading, Ltda.

Procesadora y Exportadora

de Frutas y Vegetales

Rio Teno, S.A.

Sociedad Agricola Valle

del Laja, Ltda.

Sociedad Exportaciones

Antiquina, Ltda.

Sociedad San Ernesto, Ltda.

Terra Natur, S.A.

Terrazas Export, S.A.

Uren Chile, S.A.

Valles Andinos, S.A.

The following companies remain respondents in this administrative review based on their original individual requests for review: Olmue, SANCO, and Vital Berry. We intend to issue our preliminary results in this administrative review for Olmue, SANCO, and Vital Berry by April 2, 2005.

Assessment

The Department will instruct U.S. Customs and Border Protection (“CBP”) to assess antidumping duties on all appropriate entries. For those companies for which this review is rescinded, antidumping duties shall be assessed at rates equal to the cash deposit of estimated antidumping duties required at the time of entry, or withdrawal from warehouse, for consumption, in accordance with 19 CFR 351.212(c)(1)(i).

The Department will issue appropriate assessment instructions directly to CBP within 15 days of publication of this notice.

Cash Deposit Rates

For the companies for which this review is rescinded, the cash deposit rate will continue to be 6.33 percent, the “all others” rate established in the less-than-fair-value investigation. See Notice of Amended Final Determination of Sales at Less Than Fair Value: IQF Red Raspberries from Chile, 67 FR 40270 (June 12, 2002).

These cash deposit requirements shall remain in effect until publication of the final results of the next administrative review.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i) of the Tariff Act of 1930, as amended and 19 CFR 351.213(d)(4).

Dated: December 13, 2004.
James J. Jochum,
Assistant Secretary for Import Administration.

[FR Doc. E4-3715 Filed 12-16-04; 8:45 am]

BILLING CODE 3510-DS-S